DEPARTMENT OF TRANSPORTATION

Federal Aviation Administration

14 CFR Part 71

Proposed Modification of the Salt Lake City, UT, Class B Airspace Area; Public Meetings

AGENCY: Federal Aviation Administration (FAA), DOT.

ACTION: Notice of meetings.

SUMMARY: This notice announces three fact-finding informal airspace meetings to solicit information from airspace users and others concerning a proposal to revise the Class B airspace area at Salt Lake City, UT. The purpose of these meetings is to provide interested parties an opportunity to present views, recommendations, and comments on the proposal. All comments received during these meetings will be considered prior to any revision or issuance of a notice of proposed rulemaking.

DATES: The informal airspace meetings will be held on Wednesday, January 26, 2011, from 6 p.m.-9 p.m.; Tuesday, February 1, 2011, from 6 p.m.-9 p.m.; and Thursday, February 3, 2011, from 6 p.m.-9 p.m. Comments must be received on or before March 15, 2011.

ADDRESSES: (1) The meeting on Wednesday, January 26, 2011, will be held in the Ogden Conference Room, Ogden Hinckley Airport Terminal, 3909 Airport Road, Ogden, UT, 84405. (2) The meeting on Tuesday, February 1, 2011, will be held in the Conference room in the Executive Terminal, 397 North 2370 West, Salt Lake City, UT 84116. (3) The meeting on Thursday, February 3, 2011, will be held at Utah Valley University Aviation Flight Center, Hanger A, 1158 Mike Jense Parkway, Provo, UT 84601.

Comments: Send comments on the proposal, in triplicate, to: John Warner, Manager, Operations Support Group, AJV-W2, Western Service Center, Air Traffic Organization, Federal Aviation Administration, 1601 Lind Avenue, SW., Renton WA 98057.

FOR FURTHER INFORMATION CONTACT: To obtain details including a graphic depiction regarding this proposal, please contact Ken Whitaker, FAA Support Manager Salt Lake City TRACON, Salt Lake City ATCT/TRACON, 1201 North 4000 West, Salt Lake City, UT 84116. (801) 325-9630.

SUPPLEMENTARY INFORMATION:

Meeting Procedures

(a) Doors open 30 minutes prior to the beginning of each meeting. The meetings will be informal in nature and will be conducted by one or more representatives of the FAA. A representative from the FAA will present a briefing on the planned modification to the Class B airspace at Salt Lake City, UT. Each participant will be given an opportunity to deliver comments or make a presentation, although a time limit may be imposed. Only comments concerning the plan to modify the Class B airspace area at Salt Lake City, UT, will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded. However, a summary of comments made at the meeting will be filed in the docket.

Agenda for the Meetings

—Sign-in.

—Presentation of meeting procedures.

—FAA explanation of the planned Class B airspace area modifications.

—Solicitation of public comments.

—Closing comments.

Issued in Washington DC, November 22, 2010.
Edith V. Parish,
Manager, Airspace Regulation and ATC Procedures Group.

[FR Doc. 2010-30091 Filed 11-29-10; 8:45 am]

BILLING CODE 4910-13-P